DEPARTMENT OF THE INTERIOR

Bureau of Land Management

[PO #4820000251]

Record of Decision and Approved Resource Management Plan for the North Dakota Resource Management Plan/Environmental Impact Statement, North Dakota

AGENCY: Bureau of Land Management, Interior.

ACTION: Notice of availability.

SUMMARY: The Bureau of Land Management (BLM) announces the availability of the Record of Decision (ROD) and Approved Resource Management Plan (RMP) for North Dakota. The Principal Deputy Assistant Secretary for Land and Minerals Management signed the ROD on January 8, 2025, which constitutes the decision of the BLM and makes the Approved RMP effective immediately.

DATES: The Principal Deputy Assistant Secretary for Land and Minerals Management signed the ROD/Approved RMP on January 8, 2025.

ADDRESSES: The ROD/Approved RMP is available online at the BLM National Environmental Policy Act Register at https://eplanning.blm.gov/eplanning-ui/project/1505069/570. A printed copy of the ROD/Approved RMP will also be available for public inspection within weeks of publication of this notice at the following location: BLM North Dakota Field Office, 99 23rd Ave. West, Dickinson, ND 58601, telephone: (701) 227-7725. A limited number of printed copies will also be available upon request by contacting the BLM North Dakota Field Office listed above.

A copy of the Protest Resolution Report is available at: https://www.blm.gov/programs/planning-and-nepa/public-participation/protest-resolution-reports.

FOR FURTHER INFORMATION CONTACT: Kristine Braun, North Dakota Field Office; telephone: (701) 227-7725, email: kebraun@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Approved RMP replaces the 1988 North Dakota RMP as amended. The Approved RMP provides guidance for managing approximately 58,500 acres of BLM-administered surface and 4.1 million acres of BLM-administered mineral estate, mostly split estate, across North Dakota.

The Approved RMP will guide management of these public lands for the next 15 to 20 years for the benefit of current and future generations as part of the BLM's multiple-use mission. This planning effort is updating management decisions for public land uses and resources, including mineral leasing and development.

The North Dakota Proposed RMP/Final EIS evaluated four full alternatives and one sub-alternative for managing the planning area. Alternatives B (preferred alternative from the Draft RMP/EIS), B.1, C, and D were developed using input from the public, Tribes, stakeholders, and cooperating agencies. Alternative D is the BLM's Approved RMP. This alternative was developed after considering public comments on the Draft RMP/EIS, internal BLM discussions, government-to-government consultation, and cooperating agency input.

The Approved RMP designates one Area of Critical Environmental Concern, encompassing approximately 960 acres (see Appendix A of the Approved RMP). The BLM provided the Proposed RMP/Final EIS for a 30-day public protest period starting on August 9, 2024, and received six letters containing valid protest issues. The BLM addressed the protests and issued a Protest Resolution Report (see ADDRESSES); no changes to the North Dakota Proposed RMP/Final EIS were necessary.

The BLM provided the Proposed RMP/Final EIS to the Governor of North Dakota for a 60-day Governor's consistency review on August 9, 2024. The Governor's Office identified concerns and potential inconsistencies between the Proposed RMP/Final EIS and State and local plans, policies, and programs. The BLM considered the concerns and potential inconsistencies and responded to the Governor's Office on November 8, 2024. The BLM concluded that the Proposed RMP does not conflict with existing State plans. On December 12, 2024, the Governor of North Dakota appealed the State Director's decision not to accept the State's recommendations to the BLM Director. After careful review and consideration, the Principal Deputy Assistant Secretary for Land and Minerals Management determined that the State Director properly considered all applicable State and local plans, policies, and programs in the North Dakota planning effort, and that no changes are necessary to provide for a reasonable balance between the national interest and the State's interest. The Principal Deputy Assistant Secretary for Land and Minerals Management response to the State of North Dakota's Appeal was signed on January 7, 2025, and transmitted to State Officials on January 8, 2025, prior to approval of the ROD. Consistent with the BLM regulations at 43 CFR 1610.3-2 the Principal Deputy Assistant Secretary for Land and Minerals Management Response will also be published in the Federal Register.

(Authority: 40 CFR 1506.6, 43 CFR 1610.2)

Sonya Germann,
State Director, Montana/Dakotas.

[FR Doc. 2025-00840 Filed 1-14-25; 8:45 am]

BILLING CODE 4331-20-P